DEPARTMENT OF TRANSPORTATION

National Highway Traffic Safety Administration

[Docket No. NHTSA-2005-20132]

Federal Motor Vehicle Safety Standards; Lives Saved by the Federal Motor Vehicle Safety Standards and Their Costs; Technical Reports

AGENCY: National Highway Traffic Safety Administration (NHTSA), Department of Transportation.

ACTION: Request for comments on technical reports.

SUMMARY: This notice announces NHTSA's publication of three technical reports estimating how many lives have been saved by vehicle safety technologies meeting the Federal Motor Vehicle Safety Standards, and their costs. The reports' titles are: Lives Saved by the Federal Motor Vehicle Safety Standards and Other Vehicle Safety Technologies, 1960-2002, Passenger Cars and Light Trucks; Cost and Weight Added by the Federal Motor Vehicle Safety Standards for Model Years 1968-2001 in Passenger Cars and Light Trucks; and Cost Per Life Saved by the Federal Motor Vehicle Safety Standards.

DATES: Comments must be received no later than May 27, 2005.

ADDRESSES: Report: The entire reports are available on the Internet for viewing on line in PDF format, and their summaries in HTML format at http://www.nhtsa.dot.gov/cars/rules/regrev/evaluate. You may also obtain copies of the reports free of charge by sending a self-addressed mailing label to Charles Kahane (NPO-131), National Highway Traffic Safety Administration, 400 Seventh Street, SW., Washington, DC 20590.

Comments: You may submit comments (identified by DOT DMS Docket Number NHTSA-2005-20132) by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

You may call Docket Management at (202) 366-9324 and visit the Docket from 10 a.m. to 5 p.m., Monday through Friday.

FOR FURTHER INFORMATION CONTACT: Charles Kahane, Chief, Evaluation Division, NPO-131, National Center for Statistics and Analysis, National Highway Traffic Safety Administration, Room 5208, 400 Seventh Street, SW., Washington, DC 20590. Telephone: (202) 366-2560. Fax: (202) 366-2559. E-mail: ckahane@nhtsa.dot.gov.

For information about NHTSA's evaluations of the effectiveness of existing regulations and programs: Visit the NHTSA Web site at http://www.nhtsa.dot.gov/cars/rules/regrev/evaluate.

SUPPLEMENTARY INFORMATION: NHTSA began to evaluate the effectiveness of its Federal Motor Vehicle Safety Standards (FMVSS) in 1975. By October 2004, NHTSA had evaluated the effectiveness of virtually all the life-saving technologies introduced in passenger cars or in light trucks (including pickup trucks, sport utility vehicles and vans) from about 1960 up through the later 1990's. A statistical model estimates the number of lives saved from 1960 to 2002 by the combination of these life-saving technologies. Fatality Analysis Reporting System (FARS) data for 1975-2002 document the actual crash fatalities in vehicles that, especially in recent years, include many safety technologies. Using NHTSA's published effectiveness estimates, the model estimates how many people would have died if the vehicles had not been equipped with any of the safety technologies. In addition to equipment meeting specific FMVSS, the model tallies lives saved by installations in advance of the FMVSS, back to 1960, and by non-compulsory improvements, such as the redesign of mid and lower instrument panels. FARS data have been available since 1975, but an extension of the model allows estimates of lives saved in 1960-1974.

Vehicle safety technologies saved an estimated 328,551 lives from 1960 through 2002. The annual number of lives saved grew quite steadily from 115 in 1960, when a small number of people used lap belts, to 24,561 in 2002, when most cars and light trucks were equipped with numerous modern safety technologies and belt use on the road achieved 75 percent.

NHTSA likewise began to evaluate the cost of the FMVSS in 1975. Detailed engineering “teardown” analyses for representative samples of vehicles estimate how much specific FMVSS add to the weight and the retail price of a vehicle. This process is also known as “reverse engineering.” By July 2004, NHTSA had evaluated virtually all the cost- and weight-adding technologies introduced by 2001 in passenger cars or in light trucks in response to the FMVSS. The agency estimated the cost and weight added by all the FMVSS, and by each individual FMVSS, to model year 2001 passenger cars and light trucks, and also in all earlier model years, back to 1968. NHTSA estimates that the FMVSS added an average of $839 (in 2002 dollars) and 125 pounds to the average passenger car in model year 2001. Approximately four percent of the cost and four percent of the weight of an average new passenger car could be attributed to the FMVSS. An average of $711 (in 2002 dollars) and 86 pounds was added to the average light truck in model year 2001. Approximately three percent of the cost and two percent of the weight of an average new truck could be attributed to the FMVSS.

NHTSA has evaluated both the life-saving benefits and the consumer cost for a substantial “core” group of safety technologies for passenger cars and light trucks. In 2002, these technologies added an estimated $11,353,000,000 (in 2002 dollars) to the cost of new cars and light trucks of that model year. They saved an estimated 20,851 lives in the cars and light trucks on the road during that calendar year. That amounts to $544,482 per life saved in 2002.

How Can I Influence NHTSA's Thinking on This Subject?

NHTSA welcomes public review of the technical report and invites reviewers to submit comments about the data and the statistical methods used in the analyses. NHTSA will submit to the Docket a response to the comments and, if appropriate, additional analyses that supplement or revise the technical report.

How Do I Prepare and Submit Comments?

Your comments must be written and in English. To ensure that your comments are correctly filed in the Docket, please include the Docket number of this document (NHTSA-2005-20132) in your comments.

Your primary comments must not be more than 15 pages long (49 CFR 553.21). However, you may attach additional documents to your primary comments. There is no limit on the length of the attachments.

Please send two paper copies of your comments to Docket Management, submit them electronically, fax them, or use the Federal eRulemaking Portal. The mailing address is U.S. Department of Transportation Docket Management, Room PL-401, 400 Seventh Street, SW., Washington, DC 20590. If you submit your comments electronically, log onto the Dockets Management System Web site at http://dms.dot.gov and click on “Help” to obtain instructions. The fax number is 1-202-493-2251. To use the Federal eRulemaking Portal, go to http://www.regulations.gov and follow the online instructions for submitting comments.

We also request, but do not require you to send a copy to Charles Kahane, Evaluation Division, NPO-131, National Highway Traffic Safety Administration, Room 5208, 400 Seventh Street, SW., Washington, DC 20590 (alternatively, fax to (202) 366-2559 or e-mail to ckahane@nhtsa.dot.gov). He can check if your comments have been received at the Docket and he can expedite their review by NHTSA.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR part 512).

In addition, send two copies from which you have deleted the claimed confidential business information to Docket Management, Room PL-401, 400 Seventh Street, SW., Washington, DC 20590, or submit them electronically.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC from 10 a.m. to 5 p.m., Monday through Friday.

You may also see the comments on the Internet by taking the following steps:

A. Go to the Docket Management System (DMS) Web page of the Department of Transportation (http://dms.dot.gov).

B. On that page, click on “Simple Search.”

C. On the next page (http://dms.dot.gov/search/searchFormSimple.cfm/) type in the five-digit Docket number shown at the beginning of this Notice (20132). Click on “Search.”

D. On the next page, which contains Docket summary information for the Docket you selected, click on the desired comments. You may also download the comments.

Authority: 49 U.S.C. 30111, 30168; delegation of authority at 49 CFR 1.50 and 501.8.

Joseph S. Carra,
Associate Administrator for the National Center for Statistics and Analysis.

[FR Doc. 05-1467 Filed 1-26-05; 8:45 am]

BILLING CODE 4910-59-P